DEPARTMENT OF TRANSPORTATION

Federal Aviation Administration

14 CFR Part 39

[Docket No. 2000-NM-193-AD; Amendment 39-12403; AD 2001-17-12]

RIN 2120-AA64

Airworthiness Directives; McDonnell Douglas Model MD-11 Series Airplanes

AGENCY: Federal Aviation Administration, DOT.

ACTION: Final rule.

SUMMARY: This amendment supersedes an existing airworthiness directive (AD), applicable to certain McDonnell Douglas Model MD-11 series airplanes, that currently requires replacement of the air driven generator (ADG) wire assembly with a new, increased length wire assembly. This amendment requires, among other actions, replacement of the existing ADG wire assembly in the right air conditioning compartment with a certain new wire assembly. This amendment is prompted by an investigation that revealed the length of the new wire assembly is too long and causes the assembly to chafe against the left emergency alternating current bus of the ADG. The actions specified by this AD are intended to prevent loss of the charging capability of the airplane battery due to chafing. Loss of the charging capability of the airplane battery, coupled with a loss of all normal electrical power, could prevent continued safe flight and landing of the airplane.

DATES: Effective September 26, 2001.

The incorporation by reference of certain publications listed in the regulations is approved by the Director of the Federal Register as of September 26, 2001.

ADDRESSES: The service information referenced in this AD may be obtained from Boeing Commercial Aircraft Group, Long Beach Division, 3855 Lakewood Boulevard, Long Beach, California 90846, Attention: Data and Service Management, Dept. C1-L5A (D800-0024). This information may be examined at the Federal Aviation Administration (FAA), Transport Airplane Directorate, Rules Docket, 1601 Lind Avenue, SW., Renton, Washington; or at the FAA, Los Angeles Aircraft Certification Office, 3960 Paramount Boulevard, Lakewood, California; or at the Office of the Federal Register, 800 North Capitol Street, NW., suite 700, Washington, DC.

FOR FURTHER INFORMATION CONTACT: Brett Portwood, Aerospace Engineer, Systems and Equipment Branch, ANM-130L, Los Angeles Aircraft Certification Office, 3960 Paramount Boulevard, Lakewood, California 90712-4137; telephone (562) 627-5350; fax (562) 627-5210.

SUPPLEMENTARY INFORMATION: A proposal to amend part 39 of the Federal Aviation Regulations (14 CFR part 39) by superseding AD 2000-03-12, amendment 39-11571 (65 FR 8030, February 17, 2000), which is applicable to certain McDonnell Douglas Model MD-11 series airplanes, was published in the Federal Register on February 20, 2001 (66 FR 10842). The action proposed to require, among other actions, replacement of the existing air driven generator (ADG) wire assembly in the right air conditioning compartment with a certain new wire assembly. The action also proposed to expand the applicability of the existing AD to include additional airplanes.

Comments Received

Interested persons have been afforded an opportunity to participate in the making of this amendment. Due consideration has been given to the comments received.

Address Change for Obtaining Service Information

The airplane manufacturer states that the referenced department name, number, and mail code of the address for obtaining service information are incorrect in the proposed AD. The correct address is Boeing Commercial Aircraft Group, Long Beach Division, 3855 Lakewood Boulevard, Long Beach, California 90846, Attention: Data and Service Management, Dept. C1-L5A (D800-0024). The airplane manufacturer requests that the proposed AD be revised accordingly. The FAA agrees and has revised this address in the final rule.

Delay Issuance of Final Rule

One commenter requests that the FAA verify that the proposed replacements can be accomplished with the desired result before issuing the final rule. The commenter states that the proposed AD cannot be complied with as written due to a non-existent screw, part number (P/N) 3D0005-8-9, specified in Boeing Service Bulletin MD11-24-128, Revision 02, dated October 31, 2000, which is referenced in the proposed AD as the appropriate source of service information for accomplishing the proposed replacements. The commenter also states that Figure 1 (Sheet 4 of 5), view B-B of the service bulletin indicates a screw having P/N NAS1096-2-9, which is not mentioned in the Materials information of the service bulletin. The commenter asks whether this screw is supposed to be listed in the Materials information instead of screw, P/N 3D-0005-8-9 (or -08-9).

The FAA partially agrees. To delay this action until the required actions can be performed on an airplane would be inappropriate, since we have determined that an unsafe condition exists and that replacement must be accomplished to ensure continued safety. However, since issuance of the NPRM, we have reviewed and approved Revision 03 of Boeing Service Bulletin MD11-24-128, dated May 17, 2001. The only relevant change is that the revised service bulletin corrects the screw P/N to NAS1096-2-9 in the Material information and removes the non-existent screw, P/N 3D0005-8-9. No more work is necessary on airplanes changed as shown in Revision 02 of the service bulletin. Therefore, we have revised the final rule to reference Revision 03 of the service bulletin as the appropriate source of service information, and added a new note to give operators credit for accomplishment of Revision 02 of the service bulletin before the effective date of this AD.

Conclusion

After careful review of the available data, including the comments noted above, the FAA has determined that air safety and the public interest require the adoption of the rule with the changes previously described. The FAA has determined that these changes will neither increase the economic burden on any operator nor increase the scope of the AD.

Cost Impact

There are approximately 191 Model MD-11 series airplanes of the affected design in the worldwide fleet. The FAA estimates that 60 airplanes of U.S. registry will be affected by this AD.

The new actions that are required in this AD action will take approximately 1 work hour per airplane to accomplish, at an average labor rate of $60 per work hour. Required parts will cost approximately $810 per airplane. Based on these figures, the cost impact of the requirements of this AD on U.S. operators is estimated to be $52,200, or $870 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11571 (65 FR 8030, February 17, 2000), and by adding a new airworthiness directive (AD), amendment 39-12403, to read as follows:

2001-17-12 McDonnell Douglas: Amendment 39-12403. Docket 2000-NM-193-AD. Supersedes AD 2000-03-12, Amendment 39-11571.

Applicability: Model MD-11 series airplanes, as listed in Boeing Service Bulletin MD11-24-128, Revision 03, dated May 17, 2001; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Required as indicated, unless accomplished previously.

To prevent loss of the charging capability of the air driven generator (ADG), that when coupled with a loss of all normal electrical power, could prevent continued safe flight and landing of the airplane, accomplish the following:

Replacement

(a) Within 1 year after the effective date of this AD, do the actions specified in paragraphs (a)(1), (a)(2), and (a)(3) of this AD per Boeing Service Bulletin MD11-24-128, Revision 03, dated May 17, 2001.

(1) Replace the ADG wire assembly, part number (P/N) ACS9006-501 and/or ACS9006-502, located on the transformer panel at station Y=568.333 in the right air conditioning compartment with a new wire assembly, P/N SR11240033-101.

Note 2: The referenced service bulletin incorrectly lists the new wire assembly as having P/N SR1124033-101 in paragraph 3.A.4. of the Accomplishment Instructions. The correct P/N is SR11240033-101, as indicated in paragraph (a)(1) of this AD.

(2) Replace the associated clamps and screws of the ADG wire assembly with new clamps and screws.

(3) Torque tighten terminal hardware to the limits specified in the service bulletin.

Note 3: Accomplishment of the actions specified in Boeing Service Bulletin MD11-24-128, Revision 02, dated October 31, 2000, before the effective date of this AD, is considered acceptable for compliance with the requirements of this AD.

Alternative Methods of Compliance

(b) An alternative method of compliance or adjustment of the compliance time that provides an acceptable level of safety may be used if approved by the Manager, Los Angeles Aircraft Certification Office (ACO), FAA. Operators shall submit their requests through an appropriate FAA Principal Maintenance Inspector, who may add comments and then send it to the Manager, Los Angeles ACO.

Note 4: Information concerning the existence of approved alternative methods of compliance with this AD, if any, may be obtained from the Los Angeles ACO.

Special Flight Permits

(c) Special flight permits may be issued in accordance with sections 21.197 and 21.199 of the Federal Aviation Regulations (14 CFR 21.197 and 21.199) to operate the airplane to a location where the requirements of this AD can be accomplished.

Incorporation by Reference

(d) The actions shall be done in accordance with Boeing Service Bulletin MD11-24-128, Revision 03, dated May 17, 2001. This incorporation by reference was approved by the Director of the Federal Register in accordance with 5 U.S.C. 552(a) and 1 CFR part 51. Copies may be obtained from Boeing Commercial Aircraft Group, Long Beach Division, 3855 Lakewood Boulevard, Long Beach, California 90846, Attention: Data and Service Management, Dept. C1-L5A (D800-0024). Copies may be inspected at the FAA, Transport Airplane Directorate, 1601 Lind Avenue, SW., Renton, Washington; or at the the FAA, Los Angeles Aircraft Certification Office, 3960 Paramount Boulevard, Lakewood, California; or at the Office of the Federal Register, 800 North Capitol Street, NW., suite 700, Washington, DC.

Effective Date

(e) This amendment becomes effective on September 26, 2001.

Issued in Renton, Washington, on August 14, 2001.
Vi L. Lipski,
Manager, Transport Airplane Directorate, Aircraft Certification Service.

[FR Doc. 01-20939 Filed 8-21-01; 8:45 am]

BILLING CODE 4910-13-U